DEPARTMENT OF LABOR

Occupational Safety and Health Administration

[Docket No. NRTL1-88]

MET Laboratories, Inc., Application for Expansion of Recognition

AGENCY: Occupational Safety and Health Administration (OSHA), Labor.

ACTION: Notice.

SUMMARY: This notice announces the application of MET Laboratories, Inc., for expansion of its recognition to include additional test standards, and presents the Agency's preliminary finding. This preliminary finding does not constitute an interim or temporary approval of these applications.

DATES: You may submit comments in response to this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by July 7, 2003.

Hand delivery and messenger service: Your comments must be received in the OSHA Docket Office by July 7, 2003. OSHA Docket Office and Department of Labor hours of operation are 8:15 a.m. to 4:45 p.m.

Facsimile and electronic transmission: Your comments must be sent by July 7, 2003.

ADDRESSES: Regular mail, express delivery, hand-delivery, and messenger service: You must submit three copies of your comments and attachments to the OSHA Docket Office, Docket NRTL1-88, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL1-88, in your comments.

Internet access to comments and submissions: OSHA will place comments and submissions in response to this notice on the OSHA Web page www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Bernard Pasquet or Sherrey Nicolas, Office of Technical Programs and Coordination Activities, NRTL Program, Room N3653 at the above address, or phone (202) 693-2110.

SUPPLEMENTARY INFORMATION:

Notice of Application

The Occupational Safety and Health Administration (OSHA) hereby gives notice that MET Laboratories, Inc. (MET), has applied for expansion of its recognition as a Nationally Recognized Testing Laboratory (NRTL). MET's expansion request covers the use of additional test standards. OSHA's current scope of recognition for MET may be found in the following informational Web page: http://www.osha-slc.gov/dts/otpca/nrtl/met.html.

OSHA recognition of an NRTL signifies that the organization has met the legal requirements in § 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha-slc.gov/dts/otpca/nrtl/index.html.

The most recent notice published by OSHA for MET's recognition covered an expansion of recognition, which became effective on May 23, 2002 (67 FR 36260).

The current address of the MET facility (site) already recognized by OSHA is: MET Laboratories, Inc., 914 West Patapsco Avenue, Baltimore, Maryland 21230.

General Background on the Application

MET has submitted a request, dated April 30, 2002 (see Exhibit 32), to expand its recognition to use 20 additional test standards. The NRTL Program staff has determined that all the standards are “appropriate test standards,” within the meaning of 29 CFR 1910.7(c). The staff makes such determinations in processing expansion requests from any NRTL. OSHA NRTL Program staff performed an on-site review of the NRTL in September 2002 and recommended the expansion in a memo dated October 22, 2002 (see Exhibit 33). Through no fault of MET, the application was delayed in processing. MET then submitted an amendment on May 15, 2003 (see Exhibit 32-1), to add one additional test standard to its expansion request. This standard requires the same capabilities as a few of the standards included in the original request and therefore falls within the recommendation of the assessor. As a result, a total of 21 test standards would be approved for the expansion.

MET seeks recognition for testing and certification of products for demonstration of conformance to the following additional test standards.

UL 48 Electric Signs

UL 183 Manufactured Wiring Systems

UL 325 Door, Drapery, Gate, Louver and Window Operator and Systems

UL 355 Cord Reels

UL 427 Refrigerating Units

UL 508C Power Conversion Equipment

UL 541 Refrigerated Vending Machines

UL 756 Coin and Currency Changers and Actuators

UL 778 Motor-Operated Water Pumps

UL 916 Energy Management Equipment

UL 961 Electric Hobby and Sports Equipment

UL 983 Surveillance Cameras Units

UL 1419 Professional Video and Audio Equipment

UL 1433 Control Centers for Changing Message Type Electric Signs

UL 1564 Industrial Battery Chargers

UL 1574 Track Lighting Systems

UL 1740 Industrial Robots and Robotic Equipment

UL 1838 Low Voltage Landscape Lighting Systems

UL 2044 Commercial Closed Circuit Television Equipment

UL 2161 Neon Transformers and Power Supplies

UL 3044 Surveillance Closed Circuit Television Equipment

The designations and titles of the above test standards were current at the time of the preparation of this notice.

OSHA's recognition of MET, or any NRTL, for a particular test standard is limited to equipment or materials (i.e., products) for which OSHA standards require third party testing and certification before use in the workplace. Consequently, an NRTL's scope of recognition excludes any product(s) falling within the scope of a test standard for which OSHA has no NRTL testing and certification requirements.

Many of the Underwriters Laboratories Inc. (UL) test standards listed above also are approved as American National Standards by the American National Standards Institute (ANSI). However, for convenience, we use the designation of the standards developing organization (e.g., UL 325) for the standard, as opposed to the ANSI designation (e.g., ANSI/UL 325). Under our procedures, any NRTL recognized for an ANSI-approved test standard may use either the latest proprietary version of the test standard or the latest ANSI version of that standard. Contact “NSSN” (http://www.nssn.org), an organization partially sponsored by ANSI, to find out whether or not a test standard is currently ANSI-approved.

Preliminary Finding

MET has submitted an acceptable request for expansion of its recognition as an NRTL. Following a review of the application file, the assessor's recommendation, and other pertinent information, the NRTL Program staff has concluded that OSHA can grant to MET the expansion for the additional test standards listed above. The staff therefore recommended to the Assistant Secretary that the application be preliminarily approved.

Based upon the recommendation of the staff, the Assistant Secretary has made a preliminary finding that MET Laboratories, Inc., can meet the requirements as prescribed by 29 CFR 1910.7 for expansion of its recognition.

OSHA welcomes public comments, in sufficient detail, as to whether MET has met the requirements of 29 CFR 1910.7 for expansion of its recognition as a Nationally Recognized Testing Laboratory. Your comments should consist of pertinent written documents and exhibits. To consider it, OSHA must receive the comment at the address provided above (see ADDRESSES), no later than the last date for comments (see DATES above). Should you need more time to comment, OSHA must receive your written request for extension at the address provided above no later than the last date for comments. You must include your reason(s) for any request for extension. OSHA will limit an extension to 30 days, unless the requester justifies a longer period. We may deny a request for extension if it is frivolous or otherwise unwarranted. You may obtain or review copies of MET's request, the memo on the recommendation, and all submitted comments, as received, by contacting the Docket Office, Room N2625, Occupational Safety and Health Administration, U.S. Department of Labor, at the above address. You should refer to Docket No. NRTL1-88, the permanent record of public information on MET's recognition.

The NRTL Program staff will review all timely comments and, after resolution of issues raised by these comments, will recommend whether to grant MET's expansion request. The Assistant Secretary will make the final decision on granting the expansion and, in making this decision, may undertake other proceedings that are prescribed in Appendix A to 29 CFR 1910.7. OSHA will publish a public notice of this final decision in the Federal Register.

Signed at Washington, DC, this 11th day of June, 2003.
John L. Henshaw,
Assistant Secretary.

[FR Doc. 03-15633 Filed 6-19-03; 8:45 am]

BILLING CODE 4510-26-P